DEPARTMENT OF JUSTICE

Antitrust Division

Notice Pursuant to the National Cooperative Research and Production Act of 1993—National Center for Manufacturing Sciences, Inc.

Notice is hereby given that, on February 1, 2005, pursuant to Section 6(a) of the National Cooperative Research and Production Act of 1993, 15 U.S.C. 4201 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, Advanced Technology Services, Inc., Peoria, IL; Advanced Assembly Automation Division, Dayton, OH; Automatic Feed Co., Napoleon, OH; Bardons & Oliver, Inc., Solon, OH; Bertsche Engineering Corp., Buffalo Grove, IL; Bosch Rexroth Corporation, Hoffman Estates, IL; Charmilles, Lincolnshire, IL; Drake Manufacturing Services, Warren, OH; Focus: HOPE, Detroit, MI; Flow International Corporation, Kent, WA; Gehring, L.P., Farmington Hills, MI; The Gleason Works, Rochester, NY; Hardinge Inc., Elmira, NY; Liquid Impact, LLC, Greenville, MI; Moore Tool Company, Bridgeport, CT; Nuvonyx, Inc., Bridgeton, MO; Positrol, Incorporated, Cincinnai, OH; Preco Industries, Inc., Lenexa, KS; PRIMA North America, Inc., Champlin, MN; Remmele Engineering, Inc., Big Lake, MN; Rimrock Automation, New Berlin, WI; Sunnen Products Company, St. Louis, MO; UNIST, Inc., Grand Rapids, MI; and Zagar Incorporated, Cleveland, OH have been added as parties to this venture. Also Acer America Corporation, Newbury Port, MA; Automated Precision Inc., Rockville, MD; Baxter Healthcare Corporation, Round Lake, IL; High Performance Manufacturing Consortium, Kitchener, Ontario, CANADA; Holagent Corporation, Gilroy, CA; Laser Imaging Systems, Punta Gorda, FL; RLW, Inc., State College, PA; TubalCain Company, Inc., New Braunfels, TX; Storage Technology, Louisville, CO; and Benchmark Electronics—Hudson Division, Hudson, NH have withdrawn as parties to this venture.

No other changes have been made in either the membership or planned activity of the group research project. Membership in this group research project remains open, and NCMS intends to file additional written notification disclosing all changes in membership.

On February 20, 197, NCMS filed its original notification pursuant to Section 6(a) of the Act. The Department of Justice published a notice in the Federal Register pursuant to Section 6(b) of the Act on March 17, 1987 (52 FR 8375).

The last notification was filed with the Department on July 13, 2004. A notice was published in the Federal Register pursuant to Section 6(b) of the Act on October 4, 2004 (69 FR 59269).

Dorothy B. Fountain,
Deputy Director of Operations, Antitrust Division.

[FR Doc. 05-4486 Filed 3-7-05; 8:45 am]

BILLING CODE 4410-11-M